DEPARTMENT OF HOMELAND SECURITY

Coast Guard

[Docket No. USCG-2021-0632]

Great Lakes Pilotage Advisory Committee; Vacancies

AGENCY: U.S. Coast Guard, Department of Homeland Security.

ACTION: Request for applications.

SUMMARY: The U.S. Coast Guard is requesting nominations for persons interested in serving as a member of the Great Lakes Pilotage Advisory Committee (Committee). The Great Lakes Pilotage Advisory Committee provides advice and makes recommendations to the Secretary of Homeland Security through the U.S. Coast Guard Commandant on matters relating to Great Lakes pilotage, including review of proposed Great Lakes pilotage regulations and policies.

DATES: Your completed applications should reach the U.S. Coast Guard on or before December 20, 2021.

ADDRESSES: Nomination applications should include a cover letter expressing a letter of support from the nominating group, a cover letter expressing the nominees' interest in an appointment to the Committee, a resume detailing their experience along with a brief biography. Applications should be submitted via email with the subject line “GLPAC” to Mr. Vincent Berg at: GreatLakesPilotage@uscg.mil.

FOR FURTHER INFORMATION CONTACT: Mr. Vincent Berg; telephone 202-906-0835 or email at Vincent.F.Berg@uscg.mil.

SUPPLEMENTARY INFORMATION: The Great Lakes Pilotage Advisory Committee is a Federal advisory committee. It will operate under the provisions of the Federal Advisory Committee Act (5 U.S.C., Appendix). The Great Lakes Pilotage Advisory Committee operates under the authority of 46 U.S.C. 9307, and makes recommendations to the Secretary and the U.S. Coast Guard on matters relating to the Great Lakes.

Meetings of the Great Lakes Pilotage Advisory Committee will be held with the approval of the Designated Federal Officer. The Committee is required to meet at least once per year. Additional meetings may be held at the request of a majority of the Committee or at the discretion of the Designated Federal Officer.

Each Great Lakes Pilotage Advisory Committee member serves a term of office of up to 3 years. Members may serve a maximum of six consecutive years. All members serve at their own expense and receive no salary or other compensation from the Federal Government. Members may be reimbursed, however, for travel and per diem in accordance with Federal Travel Regulations.

We will consider nominations for the following positions:

1. One member chosen from among nominations made by interests of vessel operators that contract for Great Lakes Pilotage Services;

2. One member chosen from among nominations made by shippers whose cargoes are transported through Great Lakes ports; and

3. One member, who is recommended by unanimous vote of the other members of the Committee, and may be appointed without regard to the requirement to have 5 years of practical experience in maritime operations.

To be eligible, applicants who are nominated should have particular expertise, knowledge, and experience regarding the regulations and policies on the pilotage vessels on the Great Lakes, and at least five years of practical experience in maritime operations.

Registered lobbyists are not eligible to serve on Federal Advisory Committees in an individual capacity. See “Revised Guidance on Appointment of Lobbyists to Federal Advisory Committees, Boards and Commissions” (79 FR 47482, August 13, 2014). Registered lobbyists are “lobbyists” as defined in Title 2 U.S.C. 1602 who are required by Title 2 U.S.C. 1603 to register with the Secretary of the Senate and the Clerk of the House Representatives.

The Department of Homeland Security does not discriminate in selection of Committee members on the basis of race, color, religion, sex, national origin, political affiliation, sexual orientation, gender identity, marital status, disability and genetic information, age, membership in an employee organization, or other non-merit factor. The Department of Homeland Security strives to achieve a widely diverse candidate pool for all of its recruitment actions.

Nomination(s) to become a member of the Committee, should include the cover letter, resume and brief biography and be sent to Mr. Vincent F. Berg, Great Lakes Pilotage Advisory Committee, via the transmittal method in the ADDRESSES section by the deadline in the DATES section of this notice.

When you send your application to us via email, we will send you an email confirming receipt of your application.

Dated: October 13, 2021.
Michael D. Emerson,
Director, Marine Transportation Systems.

[FR Doc. 2021-22715 Filed 10-18-21; 8:45 am]

BILLING CODE 9110-04-P